ENVIRONMENTAL PROTECTION AGENCY

40 CFR Part 271

[FRL-7228-6]

Nevada: Final Authorization of State Hazardous Waste Management Program Revisions

AGENCY: Environmental Protection Agency (EPA).

ACTION: Proposed rule.

SUMMARY: The EPA proposes to grant final authorization to the hazardous waste program revisions submitted by the Nevada Department of Environmental Protection. In the final rules section of this Federal Register, EPA is authorizing the State's program revisions as an immediate final rule without prior proposal because EPA views this action as noncontroversial and anticipates no adverse comments. A detailed rationale for the authorization is set forth in the immediate final rule. If no adverse written comments are received, the immediate final rule will become effective and no further activity will occur in relation to this proposal. If EPA receives adverse written comments, EPA will withdraw the immediate final rule before its effective date by publishing a notice of withdrawal in the Federal Register. EPA will then respond to public comments in a later final rule based on this proposal. EPA may not provide further opportunity for comment. Any parties interested in commenting on this action should do so at this time.

DATES: Written comments on this proposed rule must be received on or before July 12, 2002.

ADDRESSES: Mail written comments to Lisa McClain-Vanderpool, 75 Hawthorne St. (WST-2), San Francisco, CA 94105. You can examine copies of the materials submitted by Nevada during normal business hours at the following locations: U.S. EPA Region IX Library-Information Center, 75 Hawthorne Street, San Francisco, CA 94105, 415/947-4406; or Nevada Department of Conservation and Natural Resources, Division of Environmental Protection, 333 W. Nye Lane, Carson City, NV 89710, 775/687-5872.

FOR FURTHER INFORMATION CONTACT: Lisa McClain-Vanderpool, U.S. EPA Region IX (WST-2), 75 Hawthorne Street, San Francicso, CA 94105, Phone: (415) 972-3316.

SUPPLEMENTARY INFORMATION: For additional information see the immediate final rule published in the rules section of this Federal Register.

Dated: June 3, 2002.
Laura Yoshii,
Acting Regional Administrator, Region 9.

[FR Doc. 02-14630 Filed 6-11-02; 8:45 am]

BILLING CODE 6560-50-P